DEPARTMENT OF THE INTERIOR

Bureau of Land Management

[LLORN03000.L63100000.DB0000.17XL1116AF.252Z. HAG 21-0300]

Notice of Intent To Prepare the Hult Reservoir and Dam Safety Environmental Impact Statement in Lane County, OR

AGENCY: Bureau of Land Management, Interior.

ACTION: Notice of intent.

SUMMARY: In accordance with the National Environmental Policy Act of 1969 (NEPA) and the Federal Land Policy and Management Act of 1976, the Bureau of Land Management (BLM) Siuslaw Field Office, Northwest Oregon District, Oregon, intends to prepare the Hult Reservoir and Dam Safety Environmental Impact Statement (EIS). Through this notice, the BLM is announcing the beginning of the scoping process to solicit public comments and identify potential issues for analysis.

DATES: This notice initiates the public scoping process for the EIS. Comments may be submitted in writing until January 31, 2022.

The date(s) and location(s) of scoping meetings will be announced at least 15 days in advance on the BLM National NEPA Register at: https://eplanning.blm.gov/eplanning-ui/project/99598/510. Interested parties can also register for email notifications of the scoping meetings by submitting an email request to: BLM_OR_NO_SIU_Hult_Dam_EIS@blm.gov.

To be included in the Draft EIS, all comments must be received prior to the close of the 30-day scoping period or 15 days after the last public meeting, whichever is later. The BLM will provide additional opportunities for public participation upon publication of the Draft EIS.

ADDRESSES: You may submit comments related to the EIS by either of the following methods:

• Email: BLM_OR_NO_SIU_Hult_Dam_EIS@blm.gov;

• Mail: Siuslaw Field Office ATTN: Cheryl Adcock/Hult Reservoir and Dam Safety EIS, 3106 Pierce Parkway, Suite E, Springfield OR 97477-7909.

Documents pertinent to this proposal may be examined at the Northwest Oregon District's Springfield Interagency Office located at 3106 Pierce Parkway in Springfield, Oregon.

FOR FURTHER INFORMATION CONTACT: Cheryl Adcock, at (541) 683-6145 or by email at BLM_OR_NO_SIU_Hult_Dam_EIS@blm.gov. Contact Ms. Adcock if you wish to add your name to our mailing list. Persons who use a telecommunications device for the deaf (TDD) may call the Federal Relay Service at 1-800-877-8339 to contact Ms. Adcock during normal business hours. The service is available 24 hours a day, 7 days a week, to leave a message or question. You will receive a reply during normal business hours.

SUPPLEMENTARY INFORMATION: The Hult Reservoir is located within the Lake Creek watershed, near the community of Horton, Oregon, within the BLM Siuslaw Field Office of the Northwest Oregon District.

Hult Reservoir is a 41-acre pond, approximately a half-mile long and less than a quarter-mile wide. Hult Dam is an earthen dam consisting of loose rock placed on the downstream face and is one of nine high-hazard-rated dams managed by the BLM due to the proximity of downstream residents and the potential for loss of life.

The dam and spillway at Hult Reservoir were originally constructed in 1949 or 1950 by the Hult Timber Company to create a holding pond for logs. These lands were transferred to the BLM in 1994. The site is now primarily used for recreation.

During severe winter weather, the amount of rainfall in the catchment area contributes substantially to the water levels in the reservoir. The dam requires constant monitoring and adjustment of the outflow valve by BLM engineers to avoid overwhelming the current water level controls in place. Since the transfer of ownership, costly renovations (e.g., grouting, reinforcement structures, and monitoring devices) to the dam have been ongoing to address existing and imminent structural and safety concerns.

In 2017, the U.S. Army Corps of Engineers (USACE) conducted an inspection of the dam, which identified several potential failure modes that would cause an uncontrolled release of impounded water downstream, and the projected inundation area would impact 70 to 130 people in the community of Horton, as well as Oregon State Highway 36. An uncontrolled release could result in loss of life and damage to infrastructure critical for access to the area by emergency services. The primary potential failure mode identified during this inspection was overtopping and breach during a large flood event. A secondary potential failure mode was instability of the spillway dike near the spillway. This area is marginally stable and is built on a foundation of ancient landslide material. Prolonged rainfall and elevated flows may cause an increase in groundwater, leading to the failure of the structure.

As a result of this 2017 inspection and its associated 2018 report, the BLM requested that USACE provide the BLM with various options that would reduce the risks found in the inspection. In response, USACE did preliminary feasibility analysis on four options: (1) Raise the dam crest height to decrease the probability of overtopping during a storm event; (2) Remove the failing spillway dike and use the excavated material to widen the dam; (3) Remove the dam; and (4) Lower the dam crest height to reduce pond storage and lower the potential for loss of human life and infrastructure. Removal of the dam (option 3) is the only option that fully eliminates the risk of loss of life and damage to downstream infrastructure.

A Notice of Intent for this project was originally published in the Federal Register on May 1, 2018, (83 FR 19095). Scoping was originally initiated in 2018 for an EIS to repair or remove the dam, but the project was put on hold while USACE completed its dam inspection and associated reports. The BLM received comments from five individuals, one environmental organization, and the Environmental Protection Agency. These comments were similar to those received during pre-scoping, highlighting concerns about fish passage, recreation (fishing, boating, camping), water rights, water quality, rare plants, and public safety.

The average lifespan for this type of structure is 50 years, which the Hult Dam has exceeded by over 2 decades. The BLM believes that the dam it is at the end of its lifecycle. The dam and spillway require costly monthly and annual inspections and maintenance, and the need for repairs is expected to increase with time.

The revised purpose of this project is to decommission and remove Hult Dam to eliminate the potential for a reasonably foreseeable failure of the aging structure and the associated loss of life and critical services.

The EIS will include a No Action alternative that would analyze the continued management and standard maintenance of Hult Dam under the current conditions. Action alternatives to be considered would remove the dam, drain the reservoir, and reconnect the Lake Creek channel. Action alternatives could include the following elements:

—An engineered stream channel (the stream channel would be excavated and follow a designed path) or a natural stream channel (the stream would follow a course determined by the natural characteristics of the stream basin).

—Possible recreational opportunities, including the development of a campground, hiking trails, equestrian trails, and ponds for swimming and wading.

—Restoration with native and culturally significant plants and wetlands preservation.

—Interpretive signage and kiosks to observe the area's historical and cultural value.

—Wildlife habitat restoration such as ponds for turtles and beavers.

In the EIS, the BLM will analyze how implementation of the alternatives would affect the following potential issues:

—Safety risks to visitors and local communities from dam failure;

—Federally listed, native, or invasive fish passage and habitat;

—Downstream water quantity available for consumptive water rights;

—The Lake Creek form and function;

—The Lake Creek seasonal flood regime and floodplain connectivity;

—Archaeological or historic resources (including downstream of the dam), including whether excavation of the current pond sediments would reveal buried archaeological deposits;

—Visitor recreation access and opportunities;

—BLM-managed recreation sites;

—Existing populations of Bureau-sensitive plants;

—The introduction and spread of invasive plants;

—Existing wetlands associated with the Hult Reservoir;

—The use of the Hult Reservoir as a water source when fighting wildfires;

—The local economy; and

—The quality of life for local residents.

Hult Dam has a fish ladder that does not function for passing Oregon coastal Coho salmon, blocking passage to several miles of designated Oregon coastal Coho salmon critical habitat. Oregon coastal Coho salmon are listed as threatened under the Endangered Species Act.

Two BLM-sensitive plant species are present at the northern end of Hult Reservoir in a marsh: Bog clubmoss (Lycopodiella inundata) and humped bladderwort (Utricularia gibba). The noxious weed parrotfeather (Myriophyllum aquaticum) occurs in the reservoir, as does the non-native invasive weed reed canarygrass (Phalaris arundinacea).

The reservoir upstream of the dam is managed as the Hult Reservoir Recreation Site Special Recreation Management Area, which offers opportunities for camping, day use, swimming, fishing, and scenic driving. There are no developed campsites; however, two vault toilets are available to the public.

In anticipation of an action in the area, the BLM brought in a neutral third-party contractor to conduct stakeholder assessments and assist with facilitation of public involvement. In March 2017, the contractor conducted in-person interviews with 16 stakeholders, primarily in the town of Horton, Oregon, and in the Triangle Lake community. Stakeholders represented property owners near the Hult Reservoir, local business owners, Triangle Lake School staff members, Siuslaw Watershed Council members, and fishing interest groups. The BLM may continue to use this neutral third-party contractor throughout the EIS process to assist with public outreach and engagement.

Federal, State, and local agencies, Tribes, and other stakeholders that may be interested in or affected by the proposed project that the BLM is evaluating are invited to participate in the scoping process and, if eligible, may request or be requested by the BLM to participate in the development of the EIS as a cooperating agency. The BLM will consult with the Confederated Tribes of the Coos, Lower Umpqua, and Siuslaw Indians; Confederated Tribes of the Grand Ronde; and Confederated Tribes of the Siletz during this analysis process.

Instructions for submitting public comments are provided under ADDRESSES listed earlier and located on the BLM's National NEPA Register (ePlanning) for this EIS. Before including your address, phone number, email address, or other personal identifiable information in your comment, you should be aware that your entire comment, including your personal identifiable information, may be made publicly available at any time, and we cannot guarantee that we will be able to withhold this information from public view.

(Authority: 40 CFR 1501.7)

Elizabeth Burghard,
Acting District Manager, Northwest Oregon District, Oregon/Washington.

[FR Doc. 2021-28347 Filed 12-29-21; 8:45 am]

BILLING CODE 4310-33-P